DEPARTMENT OF HEALTH AND HUMAN SERVICES

National Institutes of Health

National Center for Complementary and Alternative Medicine; Announcement of Workshop on Clarifying Directions and Approaches to Mechanistic and Translational Research on Omega-3 Fatty Acids and Their Metabolites

ACTION: Notice.

SUMMARY: The National Center for Complementary and Alternative Medicine (NCCAM) invites the research community to participate in a Workshop on Clarifying Directions and Approaches to Mechanistic and Translational Research on Omega-3 Fatty Acids and their Metabolites. The purpose of this workshop is to bring together researchers from a variety of fields to discuss cutting edge mechanistic and translational research related to the underlying mechanisms of Omega-3 fatty acids and their metabolites. The goal is to identify opportunities to move Omega-3 fatty acid of research forward by highlighting barriers to progress with potential solutions and elucidation of gaps in the field which can be addressed. The Workshop will take place on February 14-15, 2011.

Location: Hyatt Regency Bethesda, One Bethesda Metro Center, 7400 Wisconsin Avenue, Bethesda, MD 20814.

For registration information please contact Dawn Wayman at 301.594.9877 or waymandm@mail.nih.gov.

Background: The National Center for Complementary and Alternative Medicine (NCCAM) was established in 1999 with the mission of exploring complementary and alternative healing practices in the context of rigorous science, training CAM researchers, and disseminating authoritative information to the public and professionals. NCCAM funds research grants that explore the science of CAM. For more information, see http://nccam.nih.gov/.

Participating: Other institutes participating in this workshop include: the Office of Dietary Supplements (ODS), National Cancer Institute (NCI), National Heart, Blood and Lung Institute (NHLBI), National Institute of Mental Health (NIMH), National Institute on Aging (NIA), National Institute of Neurological Disorders and Stroke (NINDS), National Institute on Alcohol Abuse and Alcoholism (NIAAA), and the National Eye Institute (NEI).

FOR FURTHER INFORMATION CONTACT: To request more information, call 301.594.9877 (Dawn Wayman) or e-mail at waymandm@mail.nih.gov.

Dated: January 26, 2011.
Wendy Weber,
Program Officer, Division of Extramural Research, National Center for Complementary and Alternative Medicine, National Institutes of Health.

[FR Doc. 2011-2545 Filed 2-3-11; 8:45 am]

BILLING CODE 4140-01-P